DEPARTMENT OF COMMERCE

National Oceanic and Atmospheric Administration

RIN 0648-XD290

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, June 2-10, 2014.

DATES: The Council will begin its plenary session at 8 a.m. on Wednesday June 4, continuing through Tuesday, June 10, 2014. The Scientific Statistical Committee (SSC) will begin at 8:00 a.m. on Monday, June 2 and continue through Wednesday, June 4, 2014. The Council's Advisory Panel (AP) will begin at 8 a.m. on Tuesday, June 3, and continue through Friday, June 6, 2014. All meetings are open to the public, except executive sessions.

ADDRESSES: The meetings will be held at the Mini Convention Center, 409 River Street Nome, AK.

Council Address: North Pacific Fishery Management Council, 605 W. 4th Avenue, Suite 306, Anchorage, AK 99501-2252.

FOR FURTHER INFORMATION CONTACT: David Witherell, Council staff; telephone: (907) 271-2809.

SUPPLEMENTARY INFORMATION:

Council Plenary Session: The agenda for the Council's plenary session will include the following issues. The Council may take appropriate action on any of the issues identified.

1. Executive Director's Report (including updates on Magnuson-Stevens Act (MSA) reauthorization, Council Coordination Committee (CCC) meeting, Joint Protocol Committee) NMFS Management Report (including update on Steller Sea Lion (SSL) Environmental Impact Statement (EIS), Re-specification of unused BSAI halibut Prohibited Species Catch (PSC)), ADF&G Report, NOAA Enforcement Report, U.S. CG Report, U.S. FWS Report, Protected Species Report

2. Bering Sea Aleutian Island (BSAI) Crab Acceptable Biological Catch (ABC)/Overfishing Levels (OFLs) for four stocks—approve; Plan Team report

3. Observer Program Annual Report

4. Observer for Tendering—Preliminary Review

5. Electronic Monitoring Workgroup Report

6. Bering Sea (BS) Chinook/Chum Salmon Bycatch—Review discussion paper

7. Crab Rights of First Refusal (ROFR) contract terms—Initial Review

8. Community Development Quota (CDQ) pacific cod fishery development—Initial review

9. BSAI PSC halibut stock impacts—discussion paper

10. Sector reports on BSAI halibut PSC measures

11. Norton Sound Red King Crab (RKC) License Limitations Programs (LLPs)—discussion paper

12. Bering Sea Fishery Ecosystem Plan—receive comments

13. Research Priorities

14. BS Trawl Salmon Excluder Exempted Fishing Permit (EFP)—review/consultation

15. Committees and Staff Tasking

The Advisory Panel will address most of the same agenda issues as the Council except B reports.

The SSC agenda will include the following issues:

1. BSAI Crab ABC/OFLs

2. Observer Program

3. BS Chinook/Chum Salmon Bycatch

4. CDQ Pacific cod

5. Crab ROFR

6. Research Priorities

7. BSAI PSC halibut stock impacts

8. BS Trawl salmon excluder EFP

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org. Background documents, reports, and analyses for review are posted on the Council Web site in advance of the meeting. The names and organizational affiliations of SSC members are also posted on the Web site.

Special Accommodations

These meetings are physically accessible to people with disabilities. Requests for sign language interpretation or other auxiliary aids should be directed to Gail Bendixen at (907) 271-2809 at least 7 working days prior to the meeting date.

Dated: May 8, 2014.
Tracey L. Thompson,
Acting Deputy Director, Office of Sustainable Fisheries, National Marine Fisheries Service.

[FR Doc. 2014-11001 Filed 5-13-14; 8:45 am]

BILLING CODE 3510-22-P